DEPARTMENT OF TRANSPORTATION

Federal Motor Carrier Safety Administration

[Docket No. FMCSA-2005-20930 (PDA-31(F))]

Notice of Delay in Processing the Application by American Trucking Associations, Inc. for a Preemption Determination Concerning the District of Columbia Restrictions Regarding Highway Routing of Certain Hazardous Materials

AGENCY: Federal Motor Carrier Safety Administration (FMCSA), DOT.

ACTION: Notice.

SUMMARY: In accordance with statutory requirements, FMCSA is publishing a notice of delay in processing the American Trucking Associations, Inc.'s (ATA) application for a preemption determination. FMCSA is conducting fact-finding in response to ATA's request, and is delaying issuance of its determination in order to allow time for appropriate consideration of the issues raised by ATA's application.

FOR FURTHER INFORMATION CONTACT: James Simmons, Chief, Hazardous Materials Division (MC-ECH), (202) 493-0496; Federal Motor Carrier Safety Administration, 400 Seventh Street, SW., Washington, DC 20590-0001. Office hours are from 7:45 a.m. to 4:15 p.m., ET, Monday through Friday, except Federal holidays.

SUPPLEMENTARY INFORMATION: ATA applied for an administrative determination that Federal hazardous material transportation law, 49 U.S.C. 5101 et seq., and FMCSA regulations, 49 CFR part 397, preempt routing requirements contained in the Terrorism Prevention in Hazardous Materials Transportation Emergency Act of 2005 [D.C. Act 16-43, February 15, 2005, 52 CDR 3048] (“DC Act”), passed by the Council of the District of Columbia on February 1, 2005, and signed by the Mayor on February 15, 2005.

FMCSA published notice of ATA's application in the Federal Register on April 20, 2005, at 70 FR 20630. Title 49 U.S.C. 5125(d) requires FMCSA to issue a decision on ATA's application “within 180 days after the date of the publication of the notice of having received such application, or the Secretary shall publish a statement in the Federal Register of the reason why the Secretary's decision on the application is delayed, along with an estimate of the additional time necessary before the decision is made.”

ATA's application for a preemption determination is still under consideration by FMCSA. The Agency currently is conducting fact-finding in response to the application. Because of this additional fact-finding, it is impracticable to issue a decision within the 180-day timeframe. In order to allow time for appropriate consideration of the issues raised by ATA's application, FMCSA delays issuance of its determination, and estimates a decision will be published in the spring of 2006.

Issued on: December 14, 2005.
Annette M. Sandberg,
Administrator.

[FR Doc. E5-7637 Filed 12-20-05; 8:45 am]

BILLING CODE 4910-EX-P